DEPARTMENT OF COMMERCE

Patent and Trademark Office

Submission for OMB Review; Comment Request

The United States Patent and Trademark Office (USPTO) will submit to the Office of Management and Budget (OMB) for clearance of the following proposal for collection of information under the provisions of the Paperwork Reduction Act (44 U.S.C. Chapter 35).

AGENCY: United States Patent and Trademark Office (USPTO).

Title: Patent Prosecution Highway (PPH) Program.

Form Number(s): PTO/SB/10, PTO/SB/12, PTO/SB/20AU, PTO/SB/20CA, PTO/SB/20DK, PTO/SB/20EP, PTO/SB/20JP, PTO/SB/20KR, and PTO/SB/20UK.

Agency Approval Number: 0651-0058.

Type of Request: Revision of a currently approved collection.

Burden: 2,625 hours annually.

Number of Respondents: 1,350 responses per year.

Average Hours per Response: The USPTO estimates that it will take the public approximately 1.5 to 2 hours to submit the information in this collection, including the time to gather the necessary information, prepare the appropriate form, and submit the completed request.

Needs and Uses: The Patent Prosecution Highway (PPH) pilot program was originally established between the United States Patent and Trademark Office (USPTO) and the Japan Patent Office (JPO) on July 3, 2006. The PPH program allows applicants whose claims are determined to be patentable in the office of first filing to have the corresponding application that is filed in the office of second filing be advanced out of turn for examination. At the same time, the PPH program allows the office of second filing to exploit the search and examination results of the office of first filing, which increases examination efficiency and improves patent quality. Additional PPH pilot programs have recently been established between the USPTO and the United Kingdom Intellectual Property Office (UKIPO), the Canadian Intellectual Property Office (CIPO), the Danish Patent and Trademark Office (DKPTO), the European Patent Office (EPO), the Korean Intellectual Property Office (KIPO), and the Intellectual Property Office of Australia (IPAU).

The USPTO and the JPO also participate in a work-sharing pilot project called the “New Route.” Under the New Route framework, a filing in one member office of this arrangement would be deemed a filing in all member offices. The first office and applicant would be given a 30-month processing time frame in which to make available a first office action and any necessary translations to the second office(s), and the second office(s) would exploit the search and examination results in conducting their own examination.

This information collection previously included two forms, Request for Participation in the New Route Pilot Program Between the JPO and the USPTO (PTO/SB/10) and Request for Participation in the Patent Prosecution Highway (PPH) Pilot Program Between the (1) JPO or (2) UKIPO and the USPTO (PTO/SB/20), which may be used by applicants to request participation in the programs and to ensure that they meet the program requirements. Since the PPH program with the JPO has been fully implemented, Form PTO/SB/20 has been revised as Form PTO/SB/20JP for use with the JPO and a separate Form PTO/SB/20UK has been created for the ongoing pilot program with the UKIPO. Similar forms have been created for the PPH pilot programs with the CIPO, the DKPTO, the EPO, the KIPO, and the IPAU. These additional PPH pilot program forms are being added to this collection.

The USPTO is undertaking another worksharing program with the EPO and the JPO called the “Triway” program. Under the Triway framework, each Office will conduct searches on corresponding applications filed under the Paris Convention in each of the Offices in a sufficiently early time period. The search results will then be shared among the Offices in order to reduce the search and examination workload. To support this program, the USPTO is adding the Request for Participation in Triway Pilot Program Among the USPTO, the EPO and the JPO (PTO/SB/12) to this collection.

Affected Public: Individuals or households, businesses or other for-profits, and not-for-profit institutions.

Frequency: On occasion.

Respondent's Obligation: Required to obtain or retain benefits.

OMB Desk Officer: Nicholas A. Fraser, e-mail: Nicholas_A._Fraser@omb.eop.gov.

Once submitted, the request will be publicly available in electronic format through the Information Collection Review page at http://www.reginfo.gov.

Paper copies can be obtained by:

• E-mail: Susan.Fawcett@uspto.gov. Include “0651-0058 PPH Program copy request” in the subject line of the message.

• Fax: 571-273-0112, marked to the attention of Susan K. Fawcett.

• Mail: Susan K. Fawcett, Records Officer, Office of the Chief Information Officer, Customer Information Services Group, Public Information Services Division, United States Patent and Trademark Office, P.O. Box 1450, Alexandria, VA 22313-1450.

Written comments and recommendations for the proposed information collection should be sent on or before December 22, 2008 to Nicholas A. Fraser, OMB Desk Officer, via e-mail at Nicholas_A._Fraser@omb.eop.gov, or by fax to 202-395-5167, marked to the attention of Nicholas A. Fraser.

Dated: November 14, 2008.
Susan K. Fawcett,
Records Officer, USPTO, Office of the Chief Information Officer, Customer Information Services Group, Public Information Services Division.

[FR Doc. E8-27692 Filed 11-20-08; 8:45 am]

BILLING CODE 3510-16-P